DEPARTMENT OF AGRICULTURE

Animal and Plant Health Inspection Service

7 CFR Part 301

[Docket No. APHIS-2012-0075]

Gypsy Moth Generally Infested Areas; Additions in Wisconsin

AGENCY: Animal and Plant Health Inspection Service, USDA.

ACTION: Affirmation of interim rule as final rule.

SUMMARY: We are adopting as a final rule, without change, an interim rule that amended the regulations to add areas in Wisconsin to the list of generally infested areas based on the detection of infestations of gypsy moth in those areas. The interim rule was necessary to prevent the artificial spread of the gypsy moth to noninfested areas of the United States.

DATES: Effective on October 24, 2013, we are adopting as a final rule the interim rule published at 78 FR 24665-24666 on April 26, 2013.

FOR FURTHER INFORMATION CONTACT: Ms. Julie S. Spaulding, National Policy Manager, Plant Health Programs, Plant Protection and Quarantine, APHIS, 4700 River Road Unit 137, Riverdale, MD 20737; (301) 851-2184.

SUPPLEMENTARY INFORMATION:

Background

The gypsy moth, Lymantria dispar (Linnaeus), is a destructive pest of forest, shade, and commercial trees such as nursery stock and Christmas trees. The gypsy moth regulations (contained in 7 CFR 301.45-1 through 301.45-12 and referred to below as the regulations) restrict the interstate movement of regulated articles from generally infested areas to prevent the artificial spread of the gypsy moth. Section 301.45-3 of the regulations lists generally infested areas.

In an interim rule ¹ effective and published in the Federal Register on April 26, 2013 (78 FR 24665-24666, Docket No. APHIS-2012-0075), we amended § 301.45-3(a) by adding portions of Wisconsin to the list of generally infested areas. We also made editorial changes to § 301.45-1.

¹ To view the interim rule and its supporting economic analysis, go to http://www.regulations.gov/#!docketDetail;D=APHIS-2012-0075.

Comments on the interim rule were required to be received on or before June 25, 2013. We received no comments by that date. Therefore, for the reasons given in the interim rule, we are adopting the interim rule as a final rule without change.

This action also affirms the information contained in the interim rule concerning Executive Order 12866 and the Regulatory Flexibility Act, Executive Orders 12372 and 12988, and the Paperwork Reduction Act.

Further, for this action the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 78 FR 24665-24666 on April 26, 2013.

Done in Washington, DC, this 18th day of October 2013.
Kevin Shea,
Administrator, Animal and Plant Health Inspection Service.

[FR Doc. 2013-25018 Filed 10-23-13; 8:45 am]

BILLING CODE 3410-34-P